DEPARTMENT OF TRANSPORTATION

Federal Highway Administration

Environmental Impact Statement; Osage, Maries, and Phelps Counties, MO

AGENCY: Federal Highway Administration (FHWA), DOT.

ACTION: Notice of Intent.

SUMMARY: The FHWA is issuing this notice to advise the public that an environmental impact statement (EIS) will be prepared for proposed improvements along U.S. 63 between the U.S. 63 and U.S. 50 interchange in Osage County to a point in Phelps County, south of the Maries County Line.

FOR FURTHER INFORMATION CONTACT: Ms. Mary Ridgeway, Environmental Review Engineer, FHWA Division Office, 3220 West Edgewood, Suite H, Jefferson City, MO 65109, Telephone: (573) 638-2620 or Mr. Dave Nichols, Director of Project Development, Missouri Department of Transportation, P.O. Box 270, Jefferson City, MO 65102, Telephone: (573) 751-4586.

SUPPLEMENTARY INFORMATION: The FHWA, in cooperation with the Missouri Department of Transportation (MoDOT), will prepare an EIS for a proposal for improvements along U.S. 63 between the U.S. 63 and U.S. 50 interchange in Osage County to a point in Phelps County, south of the Maries County line. A location study will run concurrently with the preparation of the EIS and will provide definitive reasonable alternatives for evaluation in the EIS. The proposed action will accomplish several goals: (1) Improve safety, (2) decrease congestion, and (3) support community regional development.

The proposed project will include improvements to be located within a study area defined by existing improvements just south of the U.S. 63 and U.S. 50 interchange on the north in Osage County and existing improved roadway facility in Phelps County, south of the Maries County line. The east and west boundaries will extend approximately 1 to 2 miles on either side of existing U.S. 63. The study area is approximately 1 to 2 miles on either side of existing U.S. 63. The study area is approximately 50 miles in length and 2 miles in width. Known potential impacts include residential and/or commercial relocations and access changes. A U.S. Army Corps of Engineers Section 404 permit and a floodplain development permit from the State Emergency Management Agency may be required.

Alternatives under consideration included (1) No build, (2) build alternatives, (3) transportation system management options.

To date, substantial preliminary coordination has occurred with local officials. As part of the scoping process, an interagency coordination meeting will be held with all appropriate federal, state, and local agencies. In addition, public information meetings and further meetings with public officials will be held to solicit public and agency input on the reasonable range of alternatives. A location public hearing will be held to present the findings of the Draft EIS. Public notice will be given announcing the time and place of all public meetings and the public hearing. The Draft EIS will be available for public and agency review and comment prior to the public hearing.

To ensure that the full range of issues related to this proposed action are addressed and all significant issues are identified, comments and suggestions are invited from all interested parties. Comments or questions concerning this proposed action and the EIS should be directed to the FHWA or MoDOT at the addresses previously provided.

(Catalog of Federal Domestic Assistance Program Number 20.205, Highway Planning and Construction. The regulations implementing Executive Order 12372 regarding intergovernmental consultation on Federal programs and activities apply to this program.)

Issued on: November 20, 2006.
Mary Ridgeway,
Environmental Review Engineer, Jefferson City.

[FR Doc. 06-9449 Filed 11-28-06; 8:45 am]

BILLING CODE 4910-27-M